ENVIRONMENTAL PROTECTION AGENCY

[FRL-9989-19-Region 1]

Proposed CERCLA Administrative Cost Recovery Settlement: Fletchers Paint Works Site, Milford, New Hampshire

AGENCY: Environmental Protection Agency (EPA).

ACTION: Notice of proposed settlement; request for public comments.

SUMMARY: Notice is hereby given of a proposed administrative cost settlement for recovery of response costs concerning the Fletchers Paint Works Site, located in Milford, New Hampshire, with the Settling Party, the General Electric Company. The proposed settlement requires the Settling Party pay the Environmental Protection Agency (EPA) $3,214,000 to settle EPA's past response costs, which amount to approximately $4,047,398. In exchange, EPA will provide the Settling Party with a covenant not to sue for past costs. The settlement has been approved by the Environmental and Natural Resources Division of the United States Department of Justice. For 30 days following the date of publication of this notice, the Agency will receive written comments relating to the settlement for recovery of response costs. The Agency will consider all comments received and may modify or withdraw its consent to this cost recovery settlement if comments received disclose facts or considerations which indicate that the settlement is inappropriate, improper, or inadequate. The Agency's response to any comments received will be available for public inspection at the Environmental Protection Agency—Region I, 5 Post Office Square, Suite 100, Boston, MA 02109-3912.

DATES: Comments must be submitted by March 13, 2019.

ADDRESSES: Comments should be addressed to RuthAnn Sherman, Senior Enforcement Counsel, U.S. Environmental Protection Agency, 5 Post Office Square, Suite 100 (OES04-2), Boston, MA 02109-3912 (Telephone No. 617-918-1886) and should reference the Fletchers Paint Works Site, U.S. EPA Docket No: CERCLA 01-2019-0003.

FOR FURTHER INFORMATION CONTACT: A copy of the proposed settlement may be obtained from RuthAnn Sherman, U.S. Environmental Protection Agency, Region I, 5 Post Office Square, Suite 100 (OES04-2), Boston, MA 02109-3912, (617) 918-1886; sherman.ruthann@epa.gov. Technical questions can also be directed to Jim Brown, U.S. Environmental Protection Agency, Region I, 5 Post Office Square, Suite 100 (OSRR07-1), Boston, MA 02109-3912, (617) 918-1308; brown.jim@epa.gov. For legal questions, RuthAnn Sherman, Office of Environmental Stewardship, U.S. Environmental Protection Agency, Region I, 5 Post Office Square, Suite 100 (OES04-2), Boston, MA 02109-3912, (617) 918-1886; sherman.ruthann@epa.gov.

SUPPLEMENTARY INFORMATION: This proposed administrative settlement for recovery of past response costs concerning the Fletchers Paint Works Site, located in Milford, New Hampshire, is made in accordance with Section 122(h)(l) of the Comprehensive Environmental Response, Compensation, and Liability Act (CERCLA). EPA covenants not to sue or take administrative action against the Settling Party, the General Electric Company, pursuant to Section 107(a) of CERCLA, 42 U.S.C. 9607(a), for Past Response Costs. In exchange, the Settling Party agrees to pay EPA $3,214,000. Payment of such amount shall be due within 30 days after the Effective Date. If payment is not paid as stipulated, interest shall accrue and continue to accrue on any unpaid amount until the total amount due has been received. For 30 days following the date of publication of this notice, the Agency will receive written comments relating to the settlement for recovery of response costs. The Effective Date of the Agreement is the date upon which EPA notifies the General Electric Company that the public comment period has closed and that such comments, if any, do not require that EPA modify or withdraw from the Agreement.

Dated: December 12, 2018.
Bryan Olson,
Director, Office of Site Remediation and Restoration.

[FR Doc. 2019-01904 Filed 2-8-19; 8:45 am]

BILLING CODE 6560-50-P